DEPARTMENT OF COMMERCE

International Trade Administration

Methodist Hospitals of Dallas, et al. Notice of Consolidated Decision on Applications for Duty- Free Entry of Electron Microscopes

This is a decision consolidated pursuant to Section 6(c) of the Educational, Scientific, and Cultural Materials Importation Act of 1966 (Pub. L. 89-651,as amended by Pub. L. 106-36, 80 Stat. 897; 15 CFR part 301). Related records can be viewed between 8:30 a.m. and 5 p.m. in Room 2104, U.S. Department of Commerce, 14th and Constitution Avenue., NW., Washington, DC.

Docket Number: 07-036. Applicant: Methodist Hospitals of Dallas, Dallas, TX. Instrument: Electron Microscope, Model H-7650. Manufacturer: Hitachi High Technologies, Japan. Intended Use: See notice at 72 FR 36961, July 6, 2007.

Docket Number: 07-037. Applicant: Regents of the University of California, Los Angeles, CA. Instrument: Electron Microscope, Model Tecnai G2 F20. Manufacturer: FEI Company, The Netherlands. Intended Use: See notice at 72 FR 36961, July 6, 2007.

Docket Number: 07-038. Applicant: Regents of the University of California, Los Angeles, CA. Instrument: Electron Microscope, Model FP 5600/XX Titan Krios cryo-EM. Manufacturer: FEI Company, The Netherlands. Intended Use: See notice at 72 FR 36961, July 6, 2007.

Docket Number: 07-039. Applicant: Regents of the University of California, Los Angeles, CA. Instrument: Electron Microscope, Model FP 5600/30 Titan 80-300 S/TEM. Manufacturer: FEI Company, The Netherlands. Intended Use: See notice at 72 FR 36961, July 6, 2007.

Docket Number: 07-043. Applicant: Scripps Research Institute, La Jolla, CA. Instrument: Electron Microscope, Model Technai G2 Spirit TWIN. Manufacturer: FEI Company, Czech Republic. Intended Use: See notice at 72 FR 36961, July 6, 2007.

Docket Number: 07-044. Applicant: Johns Hopkins University, Baltimore, MD. Instrument: Electron Microscope, Model Technai G2 Spirit TWIN. Manufacturer: FEI Company, The Netherlands. Intended Use: See notice at 72 FR 36961, July 6, 2007.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated July 26, 2007.
Faye Robinson,
Director.
Statutory Import Programs Staff.

[FR Doc. E7-14926 Filed 8-1-07; 8:45 am]

BILLING CODE 3510-DS-S